DEPARTMENT OF COMMERCE

International Trade Administration

[A-555-002, A-570-152, A-301-805, A-533-917, A-557-825, A-471-808, A-583-872, A-489-849, A-552-836]

Certain Paper Shopping Bags From Cambodia, the People's Republic of China, Colombia, India, Malaysia, Portugal, Taiwan, the Republic of Turkey, and the Socialist Republic of Vietnam: Postponement of Preliminary Determinations in the Less-Than-Fair-Value Investigations

AGENCY: Enforcement and Compliance, International Trade Administration, Department of Commerce.

DATES: Applicable October 3, 2023.

FOR FURTHER INFORMATION CONTACT: Charles Doss (Cambodia) at (202) 482-4474; Yang Jin Chun (the People's Republic of China (China)) at (202) 482-5760; Laurel LaCivita (Colombia) at (202) 482-4243; David Crespo (India) at (202) 482-3693; Dan Alexander (Malaysia) at (202) 482-4313; Colin Thrasher (Portugal) at (202) 482-3004; Brittany Bauer (Taiwan) at (202) 482-3860; Howard Smith (the Republic of Turkey (Turkey)) at (202) 482-5193; and Myrna Lobo (the Socialist Republic of Vietnam (Vietnam)) at (202) 482-2371, AD/CVD Operations, Enforcement and Compliance, International Trade Administration, U.S. Department of Commerce, 1401 Constitution Avenue NW, Washington, DC 20230.

SUPPLEMENTARY INFORMATION:

Background

On June 20, 2023, the U.S. Department of Commerce (Commerce) initiated the less-than-fair-value (LTFV) investigations of imports of certain paper shopping bags (paper bags) from Cambodia, China, Colombia, India, Malaysia, Portugal, Taiwan, Turkey, and Vietnam.¹ Currently, the preliminary determinations are due no later than November 7, 2023.

¹ See Certain Paper Shopping Bags from Cambodia, the People's Republic of China, Colombia, India, Malaysia, Portugal, Taiwan, the Republic of Turkey, and the Socialist Republic of Vietnam: Initiation of Less-Than-Fair-Value Investigations, 88 FR 41589 (June 27, 2023).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 19, 2023, the Coalition For Fair Trade in Shopping Bags (the petitioner) submitted a timely request that Commerce postpone the preliminary determinations in the LTFV investigations for Cambodia, China, Colombia, India, Malaysia, Portugal, Taiwan, Turkey, and Vietnam.² The petitioner stated that it requests postponement due to concerns that Commerce will need more time to issue supplemental questionnaires to address deficiencies in the respondents' initial questionnaire responses.³

² See Petitioner's Letter, “Petitioner's Request for Postponement of the Preliminary Determinations,” dated September 19, 2023.

³ Id. at 1.

For the reasons stated above, and because there are no compelling reasons to deny the request, Commerce, in accordance with section 733(c)(1)(A) of the Act and 19 CFR 351.205(e), is postponing the deadline for the preliminary determinations by 50 days (i.e., 190 days after the date on which these investigations were initiated). As a result, Commerce will issue its preliminary determinations no later than December 27, 2023. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: September 27, 2023.
Lisa W. Wang,
Assistant Secretary for Enforcement and Compliance.

[FR Doc. 2023-21824 Filed 10-2-23; 8:45 am]

BILLING CODE 3510-DS-P